DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for domestic and foreign licensing by the Department of the Navy.

The following patents are available for licensing:

U.S. Patent No. 7,255,059: ADJUSTABLE ADAPTER ASSEMBLY//U.S. Patent No. 7,262,360: UNDERWATER POWER GENERATION USING UNDERWATER THERMOCLINE//U.S. Patent No. 7,263,190: SYSTEM FOR SECURING THE CONFIDENTIALITY OF ELECTRONICALLY STORED DATA IN THE EVENT OF THE PHYSICAL THEFT THEREOF//U.S. Patent No. 7,263,208: AUTOMATED THRESHOLD SELECTION FOR A TRACTABLE ALARM RATE//U.S. Patent No. 7,263,588: DATA STORAGE SYSTEM USING GEOGRAPHICALLY-DISTRIBUTED STORAGE DEVICES/FACILITIES//U.S. Patent No. 7,264,204: UNMANNED AERIAL VEHICLE CATCHER//U.S. Patent No. 7,266,939: MOISTURE-ABSORBING CELLULOSE-BASED MATERIAL AND METHOD FOR MAKING SAME//U.S. Patent No. 7,272,242: OBJECT DETECTION IN ELECTRO-OPTIC SENSOR IMAGES//U.S Patent No. 7,296,528: ANGLED LANDING PLATFORM//U.S. Patent No. 7,296,530: UNMANNED SYSTEM FOR UNDERWATER OBJECT INSPECTION, IDENTIFICATION AND/OR NEUTRALIZATION//U.S. Patent No. 7,298,277: DEPTH MONITORING AND ALERT SYSTEM//U.S. Patent No. 7,299,152: CORRELATING EVENT DATA FOR LARGE GEOGRAPHIC AREA//U.S. Patent No. 7,299,714: TELESCOPING AND LOCKING LEVER ARM//U.S. Patent No. 7,301,851: UNDERWATER HULL SURVEY SYSTEM//U.S. Patent No. 7,315,485: SYSTEM AND METHOD FOR TARGET CLASSIFICATION AND CLUTTER REJECTION IN LOW-RESOLUTION IMAGERY//U.S. Patent No. 7,342,399: MAGNETIC ANOMALY SENSING-BASED SYSTEM FOR TRACKING A MOVING MAGNETIC TARGET//U.S. Patent No. 7,342,847: METHOD OF ESTIMATING ALONG-TRACK DISPLACEMENT OF AN UNDERWATER VEHICLE//U.S. Patent No. 7,383,019: FIELD DATA COLLECTION AND RELAY STATION//U.S. Patent No. 7,373,523: PREPARING DATA FOR STORAGE IN A SECURE FASHION//U.S. Patent No. 7,386,151: SYSTEM AND METHOD FOR ASSESSING SUSPICIOUS BEHAVIORS//U.S. Patent No. 7,406,001: UNDERWATER ACOUSTIC BEACON AND METHOD OF OPERATING SAME FOR NAVIGATION//U.S. Patent No. 7,421,349: BEARING FAULT SIGNATURE DETECTION//U.S. Patent No. 7,428,939: WATERJET DRIVE HOVERCRAFT WITH ADJUSTABLE TRIM SYSTEM//U.S. Patent No. 7,448,527: SELF-WELDING FASTENER//U.S. Patent No. 7,467,579: MINE CLEARING DEVICE INCORPORATING PNEUMATIC THRUST AND UNBIASED MOTION//U.S. Patent No. 7,484,447: MINE CLEARING DEVICE INCORPORATING UNBIASED MOTION//U.S. Patent No. 7,484,467: DEEP WATER LIFT SYSTEM REMOTE PENDANT//U.S. Patent No. 7,484,646: DIVE MASK INDEX BRACKET//U.S. Patent No. 7,484,749: FRAME TOW-BAR ADAPTER/U.S. Patent No. 7,513,210: MODULAR SPONSON WITH REPLACEABLE SECTIONS//U.S. Patent No. 7,515,738: BIOMETRIC DATA COLLECTION AND STORAGE SYSTEM//U.S. Patent No. 7,530,320: UNDERWATER WATER CANNON DEFENSE SYSTEM.//

ADDRESSES: Requests for copies of the patents cited should be directed to Office of Counsel, Naval Surface Warfare Center Panama City Division, 110 Vernon Ave., Panama City, FL 32407-7001.

FOR FURTHER INFORMATION CONTACT: Mr. James Shepherd, Patent Counsel, Naval Surface Warfare Center Panama City Division, 110 Vernon Ave., Panama City, FL 32407-7001, telephone (850) 234-4646.

Authority: 35 U.S.C. 207, 37 CFR Part 404.

Dated: July 28, 2009.
A.M. Vallandingham,
Lieutenant Commander, Judge Advocate General's Corps, U.S. Navy, Federal Register Liaison Officer.

[FR Doc. E9-18467 Filed 7-31-09; 8:45 am]

BILLING CODE 3810-FF-P